DEPARTMENT OF STATE

[Public Notice 9370]

Notice of Public Meeting

The Department of State will conduct an open meeting at 9:30 a.m. on Tuesday January 26, 2016, in Room 5 of the DOT Conference Center, 1200 New Jersey Ave, SE., Washington, DC 20590. The primary purpose of the meeting is to prepare for the third Session of the International Maritime Organization's (IMO) Sub-Committee on Human Element, Training and Watchkeeping (HTW) to be held at the IMO Headquarters, United Kingdom, on February 1-5, 2016.

The agenda items to be considered include:

—Decisions of other IMO bodies

—Validated model training courses

—Reports on unlawful practices associated with certificates of competency

—Guidance for the implementation of the 2010 Manila Amendments

—Comprehensive review of the 1995 STCW-F Convention

—Role of the human element

—Revision of the Guidelines on Fatigue

—Revised Guidelines on the Implementation of the ISM Code by Administrations (resolution A.1071(28)) on training audits

—Review of STCW passenger ship-specific safety training

—Amendments to SOLAS chapter II-1 and associated guidelines on damage control drills for passenger ships

—Completion of the detailed review of the Global Maritime Distress and Safety System (GMDSS)

—Revision of requirements for escape route signs and equipment location markings in SOLAS and related instruments

—Amendments to the IGF Code and development of guidelines for low-flashpoint fuels

—Review MODU Code, LSA Code and MSC.1/Circ.1206/Rev.1

Members of the public may attend this meeting up to the seating capacity of the room. Upon request, members of the public may also participate via teleconference, up to the capacity of the teleconference phone line. The access number for this teleconference line will be posted online at http://www.uscg.mil/imo/htw/default.asp at least 5 working days in advance. For physical access to the meeting, reasonable accommodation or participation via the teleconference line, all attendees should respond to the meeting coordinator, Mr. E.J. Terminella, by email at Emanuel.J.TerminellaJr@uscg.mil, by phone at (202) 372-1239, by fax at (202) 372-8283, or in writing at 2703 Martin Luther King Jr. Ave. SE. Stop 7509, Washington, DC 20593-7509, not later than January 15, 2016. Requests made after January 15, 2016 might not be able to be accommodated. Please note that due to security considerations, two valid, government issued photo identifications must be presented to gain entrance to the DOT Conference Center. The DOT Conference Center is accessible by taxi, privately owned conveyance and public transportation. However, parking in the vicinity of the building is limited. Additional information regarding this and other IMO public meetings may be found at: http://www.uscg.mil/imo.

Dated: November 23, 2015.
Jonathan Burby,
Coast Guard Liaison Officer, Office of Ocean and Polar Affairs, Department of State.

[FR Doc. 2015-30774 Filed 12-4-15; 8:45 am]

BILLING CODE 4710-09-P